DEPARTMENT OF JUSTICE

Antitrust Division

Notice Pursuant to the National Cooperative Research and Production Act of 1993—Composite Panel Association

Notice is hereby given that, on September 14, 2004, pursuant to section 6(a) of the National Cooperative Research and Production Act of 1993, 15 U.S.C. 4301 et seq. (“the Act”), Composite Panel Association (“CPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Composite Panel Association, Gaithersburg, MD. The nature and scope of CPA's standards development activities are: Increasing acceptance and use of composite panel products (products made from composite wood and allied materials) and educating users about their benefits. CPA represents the composite panel industry on technical, environmental, quality assurance and product acceptance issues.

Dorothy B. Fountain,
Deputy Director of Operations, Antitrust Division.

[FR Doc. 04-25831 Filed 11-19-04; 8:45 am]

BILLING CODE 4410-11-M